DEPARTMENT OF ENERGY

Federal Energy Regulatory Commission

Combined Notice of Filings #1

April 27, 2006.

Take notice that the Commission received the following electric rate filings.

Docket Numbers: ER00-1053-017.

Applicants: Maine Public Service Company.

Description: Maine Public Service Co submits an Agreement and explanatory statement resolving issues regarding their 2005 informational filing.

Filed Date: April 14, 2006.

Accession Number: 20060426-0267.

Comment Date: 5 p.m. eastern time on Friday, May 5, 2006.

Docket Numbers: ER01-2214-006.

Applicants: Entergy Services, Inc.

Description: Entergy Services, Inc. as agent for Entergy Operating Companies submits its compliance filing pursuant to the Commission's March 17th order.

Filed Date: April 17, 2006.

Accession Number: 20060425-0203.

Comment Date: 5 p.m. eastern time on Monday, May 8, 2006.

Docket Numbers: ER05-959-001.

Applicants: Entergy Services, Inc.

Description: Entergy Services, Inc submits its compliance refund report pursuant to the Commission's March 3, 2006 order.

Filed Date: April 17, 2006.

Accession Number: 20060425-0205.

Comment Date: 5 p.m. eastern time on Monday, May 8, 2006.

Docket Numbers: ER06-71-003.

Applicants: Southwestern Public Service Company.

Description: Southwestern Public Service Co submits corrected pages to SPS Rate Schedule 118 filed with the Commission March 9, 2006.

Filed Date: April 14, 2006.

Accession Number: 20060425-0223.

Comment Date: 5 p.m. eastern time on Friday, May 5, 2006.

Docket Numbers: ER06-356-003.

Applicants: Midwest Independent Transmission System Operator, Inc.

Description: Midwest Independent Transmission System Operator, Inc submits proposed revisions to its OATEM Tariff, Third Revised Volume No. 1, et al in compliance with Commission's March 17, 2006 order.

Filed Date: April 17, 2006.

Accession Number: 20060425-0210.

Comment Date: 5 p.m. eastern time on Monday, May 8, 2006.

Docket Numbers: ER06-487-001.

Applicants: PJM Transmission Owners; PJM Interconnection, LLC.

Description: PJM Interconnection, LLC and PJM Transmission Owners jointly submit a compliance filing pursuant to the Commission's order issued March 17, 2006.

Filed Date: April 17, 2006.

Accession Number: 20060425-0208.

Comment Date: 5 p.m. eastern time on Monday, May 8, 2006.

Docket Numbers: ER06-493-002.

Applicants: Midwest Independent Transmission System Operator, Inc.

Description: Midwest Independent Transmission System Operator, Inc submits a compliance filing re amendments to Section 7.14(as) and Attachment L of its OATEM Tariff, Third Revised Volume No. 1.

Filed Date: April 17, 2006.

Accession Number: 20060425-0207.

Comment Date: 5 p.m. eastern time on Monday, May 8, 2006.

Docket Numbers: ER06-506-003.

Applicants: New York Transmission Owners.

Description: New York Independent System Operator, Inc and New York Transmission Owners submit a joint compliance filing.

Filed Date: April 17, 2006.

Accession Number: 20060425-0206.

Comment Date: 5 p.m. eastern time on Monday, May 8, 2006.

Docket Numbers: ER06-680-001.

Applicants: Northern Maine Independent System Administrator, Inc.

Description: Northern Maine Independent System Administrator, Inc submits revisions to its February 27, 2006 filing, FERC Electric Tariff Original Volume 1 etc.

Filed Date: April 20, 2006.

Accession Number: 20060426-0224.

Comment Date: 5 p.m. eastern time on Friday, May 5, 2006.

Docket Numbers: ER06-757-001.

Applicants: Eastman Cogeneration L.P.

Description: Eastman Cogeneration, LP submits Original Sheet 1et al to its revised proposed FERC Electric Tariff 1, Original Volume 1.

Filed Date: April 21, 2006.

Accession Number: 20060426-0270.

Comment Date: 5 p.m. eastern time on Friday, May 5, 2006.

Docket Numbers: ER06-863-000.

Applicants: PJM Interconnection, LLC.

Description: PJM Interconnection, LLC submits a motion to withdraw its April 12, 2006 filing.

Filed Date: April 20, 2006.

Accession Number: 20060424-0091.

Comment Date: 5 p.m. eastern time on Thursday, May 11, 2006.

Docket Numbers: ER06-866-000.

Applicants: Midwest Independent Transmission System Operator, Inc.

Description: Midwest Independent Transmission System Operator, Inc submits an unexecuted Large Generator Interconnection Agreement with Whistling Wind WI Energy Center, LLC and American Transmission Company, LLC.

Filed Date: April 14, 2006.

Accession Number: 20060420-0159.

Comment Date: 5 p.m. eastern time on Friday, May 5, 2006.

Docket Numbers: ER06-867-000.

Applicants: Aquila, Inc.

Description: Aquila, Inc submits an amendment to its Electric Interconnection and Interchange Agreement with Sunflower Electric Cooperative, Inc.

Filed Date: April 14, 2006.

Accession Number: 20060420-0147.

Comment Date: 5 p.m. eastern time on Friday, May 5, 2006.

Docket Numbers: ER06-868-000.

Applicants: Florida Power Corporation.

Description: Florida Power Corp d/b/a Progress Energy Florida, Inc submits modification of its Agreement for Sale & Purchase of Capacity and Energy Agreement with Seminole Electric Cooperative, Inc.

Filed Date: April 14, 2006.

Accession Number: 20060420-0150.

Comment Date: 5 p.m. eastern time on Friday, May 5, 2006.

Docket Numbers: ER06-869-000.

Applicants: Consolidated Edison Co. of New York, Inc

Description: Consolidated Edison Co of NY, Inc submits amendments to its Delivery Service Rate Schedule 96 and its Economic Development Delivery Service Rate Schedule, FERC Rate Schedule 92.

Filed Date: April 19, 2006.

Accession Number: 20060425-0222.

Comment Date: 5 p.m. eastern time on Wednesday, May 10, 2006.

Docket Numbers: ER06-870-000.

Applicants: NRG Audrain Generating LLC.

Description: NRG Audrain Generating, LLC submits its notice of cancellation of its market-based rate tariff, FERC Electric Tariff, Original Volume 1.

Filed Date: April 14, 2006.

Accession Number: 20060425-0224.

Comment Date: 5 p.m. eastern time on Friday, May 5, 2006.

Docket Numbers: ER06-871-000.

Applicants: New York Independent System Operator, Inc.

Description: New York Independent System Operator, Inc submits revisions to its Market Administration and Control Area Services Tariff.

Filed Date: April 14, 2006.

Accession Number: 20060425-0229.

Comment Date: 5 p.m. eastern time on Friday, May 5, 2006.

Docket Numbers: ER06-872-000.

Applicants: Southern Operating Companies.

Description: Southern Companies submits amendments to its interchange agreement with Tennessee Valley Authority, etc.

Filed Date: April 17, 2006.

Accession Number: 20060425-0268.

Comment Date: 5 p.m. eastern time on Monday, May 8, 2006.

Docket Numbers: ER96-719-011; EL05-59-002.

Applicants: MidAmerican Energy Company.

Description: MidAmerican Energy Co submits a compliance filing pursuant to the Commission's order issued March 17, 2006.

Filed Date: April 17, 2006.

Accession Number: 20060425-0209.

Comment Date: 5 p.m. eastern time on Monday, May 8, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E6-6822 Filed 5-4-06; 8:45 am]

BILLING CODE 6717-01-P